DEPARTMENT OF LABOR

Employment And Training Administration

[TA-W-53,129]

Bayer Pharmaceuticals Corporation, Pharmaceutical Division, West Haven, CT; Amended Notice of Certification Regarding Eligibility To Apply for Worker Adjustment Assistance

Including employees of Bayer Pharmaceuticals Corporation Pharmaceutical Division, West Haven, Connecticut located in the following states:

TA-W-53,129A Alabama

TA-W-53,129V Alaska

TA-W-53,129B Arizona

TA-W-53,129W Arkansas

TA-W-53,129C California

TA-W-53,129X Colorado

TA-W-53,129D Florida

TA-W-53,129Y Georgia

TA-W-53,129E Hawaii

TA-W-53,129Z Idaho

TA-W-53,129F Illinois

TA-W-53,129AA Indiana

TA-W-53,129G Kansas

TA-W-53,129BB Louisiana

TA-W-53,129H Maryland

TA-W-53,129CC Massachusetts

TA-W-53,129I Michigan

TA-W-53,129DD Minnesota

TA-W-53,129J Mississippi

TA-W-53,129EE Missouri

TA-W-53,129K Montana

TA-W-53,129FF Nevada

TA-W-53,129L New Hampshire

TA-W-53,129GG New Jersey

TA-W-53,129M New Mexico

TA-W-53,129HH New York

TA-W-53,129N North Carolina

TA-W-53,129II North Dakota

TA-W-53,129O Ohio

TA-W-53,129JJ Oklahoma

TA-W-53,129P Oregon

TA-W-53,129KK Pennsylvania

TA-W-53,129Q Rhode Island

TA-W-53,129LL South Carolina

TA-W-53,129R South Dakota

TA-W-53,129MM Tennessee

TA-W-53,129S Texas

TA-W-53,129NN Utah

TA-W-53,129T Virginia

TA-W-53,129OO Washington

TA-W-53,129U West Virginia

TA-W-53,129PP Wisconsin

In accordance with section 223 of the Trade Act of 1974 (19 U.S.C. 2273) the Department of Labor issued a Notice of Certification Regarding Eligibility to Apply for Worker Adjustment Assistance on October 24, 2003, applicable to workers of Bayer Pharmaceuticals Corporation, Pharmaceutical Division, West Haven, Connecticut. The notice was published in the Federal Register on November 28, 2003 (68 FR 66878).

At the request of the State agency, the Department reviewed the certification for workers of the subject firm. New information shows that workers were separated involving employees of the West Haven, Connecticut facility of Bayer Pharmaceuticals Corporation, Pharmaceutical Division located in the above mentioned states. These employees provided sales support services for the production of pharmaceutical products at the West Haven, Connecticut location of the subject firm.

Based on these findings, the Department is amending this certification to include employees of the West Haven, Connecticut facility of Bayer Pharmaceuticals Corporation, Pharmaceutical Division, located in the above mentioned states.

The intent of the Department's certification is to include all workers of Bayer Pharmaceuticals Corporation, Pharmaceutical Division, West Haven, Connecticut, who were adversely affected by increased imports.

The amended notice applicable to TA-W-53,129 is hereby issued as follows:

All workers of Bayer Pharmaceuticals Corporation, Pharmaceutical Division, West Haven, Connecticut (TA-W-53,129), including employees of Bayer Pharmaceuticals Corporation, Pharmaceutical Division, West Haven, Connecticut, located in the following states: Alabama (TA-W-53,129A), Arizona (TA-W-53,129B), California (TA-W-53,129C), Florida (TA-W-53,129D), Hawaii (TA-W-53,129E) Illinois (TA-W-53,129F), Kansas (TA-W-53,129G), Maryland (TA-W-53,129H), Michigan (TA-W-53,129I, Mississippi (TA-W-53,129J), Montana (TA-W-53,129K), New Hampshire (TA-W-53,129L), New Mexico (TA-W-53,129M), North Carolina (TA-W-53,129N), Ohio (TA-W-53,129O), Oregon (TA-W-53,129P), Rhode Island (TA-W-53,129Q), South Dakota (TA-W-53,129R), Texas (TA-W-53,129S), Virginia (TA-W-53,129T), West Virginia (TA-W-53,129U), Alaska (TA-W-53,129V), Arkansas (TA-W-53,129W), Colorado (TA-W-53,129X), Georgia (TA-W-53,129Y), Idaho (TA-W-53,129Z), Indiana (TA-W-53,129AA), Louisiana (TA-W-53,129BB), Massachusetts (TA-W-53,129CC), Minnesota (TA-W-53,129DD), Missouri (TA-W-53,129EE), Nevada (TA-W-53,129FF), New Jersey (TA-W-53,129GG), New York (TA-W-53,129HH), North Dakota (TA-W-53,129II), Oklahoma (TA-W-53,129JJ), Pennsylvania (TA-W-53,129KK), South Carolina (TA-W-53,129LL), Tennessee (TA-W-53,129MM), Utah (TA-W-53,129NN), Washington (TA-W-53,129OO), Wisconsin (TA-W-53,129PP),who became totally or partially separated from employment on or after October 1, 2002, through October 24, 2005, are eligible to apply for adjustment assistance under section 223 of the Trade Act of 1974.

Signed in Washington, DC this 1st day of February, 2005.
Richard Church,
Certifying Officer, Division of Trade Adjustment Assistance.

[FR Doc. E5-686 Filed 2-18-05; 8:45 am]

BILLING CODE 4510-30-P